DEPARTMENT OF COMMERCE

National Oceanic and Atmospheric Administration

RIN 0648-XR89

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 102nd Scientific and Statistical Committee (SSC) and 146th Council meetings to take recommendations and action on fishery management issues in the Western Pacific Region.

DATES: The 102nd SSC Meeting will be held October 14-16, 2009, and the 146th Council meeting will be held October 20-23, 2009. All meetings will be held in Honolulu, HI. For specific times and agendas, see SUPPLEMENTARY INFORMATION.

ADDRESSES: The SSC meetings will be held at the Council Office, 1164 Bishop Street, Suite 1400, Honolulu, HI 96813, telephone: (808) 522-8220. The Council Meeting will be held at the Laniakea YWCA-Fuller Hall, 1040 Richards Street, Honolulu, HI 96813, telephone: (808) 538-7061.

FOR FURTHER INFORMATION CONTACT: Kitty M. Simonds, Executive Director; telephone: (808) 522-8220.

SUPPLEMENTARY INFORMATION: In addition to the agenda items listed here, the SSC and Council will hear recommendations from Council advisory groups. Public comment periods will be provided throughout the agendas. The order in which agenda items are addressed may change. The meetings will run as late as necessary to complete scheduled business.

Schedule and Agenda for 102nd SSC Meeting

8:30 a.m., Wednesday October 14, 2009

1. Introductions

2. Approval of Draft Agenda and Assignment of Rapporteurs

3. Status of the 101st SSC Meeting Recommendations

4. Report from the Pacific Islands Fisheries Science Center Director

5. Program Planning

A. Update on Catch Shares Task Force

B. Habitat

1. Habitat Assessment and Improvement Plan

2. Report on Deep-Slope Habitat Workshop

3. Review of Essential Fish Habitat (EFH) and Habitat Areas of Particular Concern (HAPC)

C. Public Hearing

D. Discussion and Recommendations

6. Insular Fisheries

A. Hawaii Archipelago

1. Western Pacific Stock Assessment Review (WPSAR) of Hawaii bottomfish

2. Haleiwa Shark Viewing Tour Research

3. Larval Dispersal Model

B. Recommendations on Acceptable Biological Catches for Insular Stocks (Action)

C. Public Hearing

D. Discussion and Recommendations

8:30 a.m., Thursday October 15, 2009

7. Pelagic Fisheries

A. Longline Management

1. Recommendations on Tuna Quota Management (Action)

2. Recommendations on Territory Bigeye Longline Quotas (Action)

B. Non-Longline Management

1. Social and economic aspects of Hawaii's small boat fisheries

2. Cross Seamount Total Allowable Catch

3. Main Hawaiian Islands shortline management

C. Update on Blue Shark Stock Assessment

D. Hawaii Longline Shark Bycatch Information

E. American Samoa and Hawaii Longline Quarterly Reports

F. International Fisheries/Meetings

1. Stock Assessments

a. Western & Central Pacific Ocean (WCPO) Bigeye Tuna

b. WCPO Yellowfin Tuna

c. South Pacific Albacore Tuna

d. North Pacific Swordfish Tuna

1. Report of the Western & Central Pacific Fisheries Commission (WCPFC) Science Committee

2. Report of the WCPFC Northern Committee

3. Report of the WCPFC Technical & Compliance Committee

4. Report on North Pacific Regional Fishery Management Organization's Science Plan - Bob Humphreys

G. Pelagic Plan Team Report - Keith Bigelow

H. Public Hearing

I. Discussion and Recommendations

8. Protected Species

A. Loggerhead Status Review

B. Public Hearing

C. Discussion and Recommendations

8:30 a.m., Friday October 16, 2009

9. Other Business

A. 103rd SSC Meeting

10. Summary of SSC Recommendations to the Council

Schedule for 146th Council Meeting Standing Committees

10 a.m. - 12 noon, Tuesday October 20, 2009

Executive and Budget Standing Committee Meeting Schedule and Agenda for 146th Council Meeting

2 p.m. - 5:30 p.m., Tuesday, October 20, 2009

1. Introductions

2. Approval of Agenda

3. Approval of 145th Meeting Minutes

4. Executive Director's Report

5. Agency Reports

A. National Marine Fisheries Service

1. Pacific Islands Regional Office

2. Pacific Islands Fisheries Science Center

B. NOAA General Counsel

C. U.S. Fish and Wildlife Service

D. Law Enforcement

1. U.S. Coast Guard

2. NOAA NMFS Office for Law Enforcement

3. NOAA General Counsel for Enforcement and Litigation

E. Public Comments

F. Council Discussion and Action

6. Public Comments on Non-Agenda Items

9 a.m. - 5 p.m., Wednesday, October 21, 2009

Guest Speaker: Effects of El Nino in the Western Pacific Region

7. Mariana Archipelago Fisheries

A. Island Reports - Council Members

1. Arongol Faleey

2. Isla Informe

B. Enforcement Report - Council Members

1. Commonwealth of the Northern Mariana Islands (CNMI)

2. Guam

C. Community Issues

1. CNMI Division of Fish & Wildlife Effectiveness Model for Meeting the Conservation Goals of the Micronesian Challenge

2. Update on Military Buildup

3. Report on Guam Bio-sampling Workshop

4. Guam Marine Conservation Plan (Action)

D. Education and Outreach Reports

1. CNMI

2. Guam

E. Legislative Reports

F. SSC Recommendations

G. Public Hearing

H. Council Discussion and Action

8. American Samoa Archipelago Fisheries

A. Motu Lipoti

B. Enforcement Report

C. Community Issues

1. Update on Proposed National Marine Sanctuaries

2. Cannery Closure & Fisheries Development

D. Education and Outreach Report

E. Fono Report

F. SSC Recommendations

G. Public Comment

H. Council Discussion and Action

9. Hawaii Archipelago and Pacific Remote Islands Area Fisheries

A. Moku Pepa

B. Enforcement Report

C. Community Issues

1. Small Boat Fisheries in Hawaii

2. Hawaii Community Coordinator Projects

3. Fish Labeling Issues

4. Haleiwa Shark Viewing

D. Hawaii Precious Coral Fisheries

1. Report on CITES Corallium Workshops

E. Main Hawaiian Islands Bottomfish Fisheries

1. Western Pacific Stock Assessment Review of Hawaii bottomfish

2. Report on Catch Shares Task Force

F. FMP Amendment for Managements of Hancock Seamount

G. Hawaii Education Report

H. Legislative Report

I. SSC Recommendations

J. Public Comment

K. Council Discussion and Action

Fishers Forum: Fishermen as Scientists

6 p.m. - 9 p.m., Wednesday, October 21, 2009

Aloha Tower Marketplace, Pier 11

9 a.m. - 5 p.m., Thursday, October 22, 2009

10. Program Planning and Research

A. Recommendations for Annual Catch Limits for Known-MSY Species in the Western Pacific

B. Data Collection

1. Update on Marine Recreational Improvement Program

2. Recommendations on Recreational Fishery Permitting and Reporting in the Western Pacific Region

C.3. Report on the Non-Commercial Fisheries Advisory Committee Meeting

D. Recommendations for Aquaculture Management in the Western Pacific

1. Proposed Changes to the Council's Aquaculture Policy (Action)

2. Options for Aquaculture Management in the Western Pacific

E. Recommendations for Framework Process for Council Actions

F. Research

1. Information and Data Needs for Archipelago FEPs

G. Habitat

1. Habitat Assessment and Improvement Plan

2. Report on Deep-slope Habitat Workshop

H. Compensation for Fishermen Excluded from Pacific Monuments

I. National and International Education and Outreach Reports

J. SSC Recommendations

K. Public Hearing

L. Council Discussion and Action - Sean Martin

11. Pelagic and International Fisheries Committee Chair

A. Action Items

1. Recommendations for Management of Hawaii Longline Tuna Quota (Action)

2. Recommendations for Territorial Longline Quotas (Action)

3. Recommendations for Options for Shortline Management in the Main Hawaiian Islands Longline Exclusion Zone

4. Options for Management of Tuna and Seamount Monchong at the Cross Seamount

B. Longline Fishery Quarterly Reports

1. American Samoa Longline Fishery

2. Hawaii Limited-entry Longline Fishery

C. Hawaii Longline Shark Bycatch Information

D. Report on U.S. Purse Seine Fishing in the Western Pacific

E. International Fisheries/Meetings

1. Western & Central Pacific Fisheries Commission

a. Science Committee

b. Northern Committee

c. Technical Compliance Committee

2. North Pacific Seamount Regional Fisheries Management Organization

F. Sea Turtle Advisory Committee Recommendations

G. Pelagic Plan Team Recommendations

H. SSC Recommendations

I. Public Hearing

J. Council Discussion and Action

9 a.m. - noon, Friday, October 23, 2009

12. Administrative Matters and Budgets

A. Financial Report

1. Five Year Budget and Program 2010-14

B. Administrative Report

C. Meetings and Workshops (Calendar)

D. Council Family Changes

E. Recommendations on Changes to Standard Operation Proceedings & Practices (Action)

1. NMFS Operational Guidelines

2. GAO Recommendations

F. Update on General Accounting Office Recommendations

G. Executive and Budget Standing Committee Recommendations

H. Public Comment

I. Council Discussion and Action

13. Other Business

A. Ethics Guidance

B. Closed Session

1. Personnel Matters

2. General Counsel Report to Council on Litigation

B. Election of Officers

C. 147th Council Meeting

Non-emergency issues not contained in this agenda may come before the Council for discussion and formal Council action during its 146th meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 25, 2009.
Tracey L. Thompson,
Acting Director, Office of Sustainable Fisheries, National Marine Fisheries Service.

[FR Doc. E9-23512 Filed 9-29-09; 8:45 am]

BILLING CODE 3510-22-S